NATIONAL SCIENCE FOUNDATION

Notice and Request for Comments

AGENCY: National Science Foundation.

ACTION: Notice and request for comments.

SUMMARY: Under the Paperwork Reduction Act of 1995, Public Law 104-13 (44 U.S.C. 3501 et seq.), the National Science Foundation (NSF) is inviting the general public or other Federal agencies to comment on a proposed addition to its confidentiality pledge, presented on surveys conducted by the National Center for Science and Engineering Statistics (NCSES). These revisions are required by the passage and implementation of provisions of the Federal Cybersecurity Enhancement Act of 2015 (H.R. 2029, Division N, Title II, Subtitle B, Sec. 223), which permit and require the Secretary for the Department of Homeland Security (DHS) to provide Federal civilian agencies' information technology systems with cybersecurity protection for their Internet traffic.

Comments: Comments are invited on: (a) The proposed confidentiality pledge's fit for use by NCSES, and (b) ways to enhance the quality, utility, and clarity of the pledge.

DATES: Written comments on this notice must be received by April 10, 2017 to be assured consideration. Comments received after that date will be considered to the extent practicable. Send comments to address below.

ADDRESSES: Written comments regarding the information collection and requests for copies of the proposed information collection request should be addressed to Suzanne Plimpton, Reports Clearance Officer, National Science Foundation, 4201 Wilson Blvd., Rm. 1265, Arlington, VA 22230, or by email to splimpto@nsf.gov.

FOR FURTHER INFORMATION, CONTACT: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Federal statistics provide key information that the Nation uses to measure its performance and make informed choices about budgets, employment, health, investments, taxes, and a host of other significant topics. The overwhelming majority of Federal surveys are conducted on a voluntary basis. Respondents, ranging from businesses to households to institutions, may choose whether to provide the requested information. Many of the most valuable Federal statistics come from surveys that ask for highly sensitive information such as proprietary business data from companies or particularly personal information or practices from individuals. Strong and trusted confidentiality and exclusively statistical use pledges under the CIPSEA and similar statistical confidentiality pledges are effective and necessary in honoring the trust that businesses, individuals, and institutions, by their responses, place in statistical agencies.

Under the CIPSEA and similar statistical confidentiality protection statutes, many Federal statistical agencies make statutory pledges that the information respondents provide will be seen only by statistical agency personnel or their sworn agents, and will be used only for statistical purposes. The CIPSEA and similar statutes protect the confidentiality of information that agencies collect solely for statistical purposes and under a pledge of confidentiality. These Acts protect such statistical information from administrative, law enforcement, taxation, regulatory, or any other non-statistical use and immunize the information submitted to statistical agencies from many legal processes. Moreover, statutes like the CIPSEA carry criminal penalties of a Class E felony (fines up to $250,000, or up to five years in prison, or both) for conviction of a knowing and willful unauthorized disclosure of covered information.

As part of the Consolidated Appropriations Act for Fiscal Year 2016 signed on December 17, 2015, the Congress enacted the Federal Cybersecurity Enhancement Act of 2015 (H.R. 2029, Division N, Title II, Subtitle B, Sec. 223). This Act, among other provisions, requires the Secretary of Homeland Security to provide Federal civilian agencies' information technology systems with cybersecurity protection for their Internet traffic. The DHS cybersecurity program's objective is to protect Federal civilian information systems from malicious malware attacks. The Federal statistical system's objective is to ensure that the DHS Secretary performs those essential duties in a manner that honors the Government's statutory promises to the public to protect their confidential data. Given that the DHS is not a Federal statistical agency, both DHS and the Federal statistical system have been successfully engaged in finding a way to balance both objectives and achieve these mutually reinforcing objectives.

As required by passage of the Federal Cybersecurity Enhancement Act of 2015, the Federal statistical community will implement DHS' cybersecurity protection program, called Einstein.

The technology currently used to provide this protection against cyber malware electronically searches Internet traffic in and out of Federal civilian agencies in real time for malware signatures. When such a signature is found, the Internet packets that contain the malware signature are shunted aside for further inspection by DHS personnel. Because it is possible that such packets entering or leaving a statistical agency's information technology system may contain confidential statistical data, statistical agencies can no longer promise their respondents that their responses will be seen only by statistical agency personnel or their sworn agents. However, they can promise, in accordance with provisions of the Federal Cybersecurity Enhancement Act of 2015, that such monitoring can be used only to protect information and information systems from cybersecurity risks, thereby, in effect, providing stronger protection to the security and integrity of the respondents' submissions.

Accordingly, DHS and Federal statistical agencies have developed a Memorandum of Agreement for the installation of Einstein cybersecurity protection technology to monitor their Internet traffic.

In a separate Federal Register Notice, NSF notified the public that the confidentiality pledge for NCSES surveys was being revised, effective immediately. Table 1 contains a listing of the current numbers and information collection titles for those NSF programs whose confidentiality pledges will change to reflect the statutory implementation of DHS' Einstein monitoring for cybersecurity protection purposes. For the Information Collections listed in the table below, NSF statistical confidentiality pledges will be modified to include the following sentence, “Per the Federal Cybersecurity Enhancement Act of 2015, your data are protected from cybersecurity risks through screening of the systems that transmit your data.”

Table 1—Current PRA OMB Numbers, Expiration Dates, and Information Collection Titles Included in This Notice
OMB Control No. | Expiration date | Information collection title
3145-0101 | 08/31/2018 | Survey of Science and Engineering Research Facilities (Facilities).
3145-0019 | 05/31/2018 | Survey of Earned Doctorates.
3145-0020 | 08/31/2018 | Survey of Doctorate Recipients.
3145-0100 | 09/30/2019 | Higher Education R&D Survey.
3145-0141 * | 05/31/2018 | National Survey of College Graduates.
3145-0174 | 07/31/2019 | Generic Clearance of Survey Improvement Projects.
3145-0235 | 06/30/2017 | Early Career Doctorates Survey.
* This information collection was also named in a Federal Register Notice from the U.S. Census Bureau (81 FR 94321), since that agency collects data on NSF's behalf.

Dated: February 2, 2017.
Suzanne H. Plimpton,
Reports Clearance Officer, National Science Foundation.

[FR Doc. 2017-02461 Filed 2-6-17; 8:45 am]

BILLING CODE 7555-01-P